NUCLEAR REGULATORY COMMISSION

[Docket No. NRC-2013-0018]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. chapter 35). The NRC hereby informs potential respondents that an agency may not conduct or sponsor, and that a person is not required to respond to, a collection of information unless it displays a currently valid OMB control number. The NRC published a Federal Register notice with a 60-day comment period on this information collection on March 8, 2013 (78 FR 15054).

1. Type of submission, new, revision, or extension: New.

2. The title of the information collection: Reactor Oversight Process External Survey.

3. Current OMB approval number: 3150-XXXX.

4. The form number if applicable: N/A.

5. How often the collection is required: Once every 2 years.

6. Who will be required or asked to report: Members of the public, licensees, and other interested stakeholders.

7. An estimate of the number of annual responses: 13.3.

8. The estimated number of annual respondents: 13.3.

9. An estimate of the total number of hours needed annually to complete the requirement or request: 13.3.

10. Abstract: The mission of the NRC is to regulate the nation's civilian use of byproduct, source, and special nuclear materials to ensure adequate protection of public health and safety, to promote the common defense and security, and to protect the environment. One way to support this mission is through the implementation of the Reactor Oversight Process (ROP), which is the agency's program to inspect, measure, and assess the safety performance of commercial nuclear power plants and to respond to any decline in performance.

The NRC seeks to achieve continuous improvement of the ROP through the ROP self-assessment process. The CY 2013 and 2015 ROP self-assessments will rely, in part, on direct feedback from external stakeholders. The information collected through the voluntary survey will support this purpose, and a summary of the survey results will be included in the annual ROP self-assessment report to the Commission.

The public may examine and have copied for a fee publicly available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by July 10, 2013. Comments received after this date will be considered if it is practical to do so, but assurance of consideration cannot be given to comments received after this date.

Chad Whiteman, Desk Officer, Office of Information and Regulatory Affairs (3150-XXXX), NEOB-10202, Office of Management and Budget, Washington, DC 20503.

Comments can also be emailed to Chad_S_Whiteman@omb.eop.gov or submitted by telephone at 202-395-4718.

The NRC Clearance Officer is Tremaine Donnell, 301-415-6258.

Dated at Rockville, Maryland, this 15th day of May 2013.
For the Nuclear Regulatory Commission.
Tremaine Donnell,
NRC Clearance Officer, Office of Information Services.

[FR Doc. 2013-13627 Filed 6-7-13; 8:45 am]

BILLING CODE 7590-01-P